DEPARTMENT OF ENERGY

Federal Energy Regulatory Commission

Combined Notice of Filings #1

Take notice that the Commission received the following exempt wholesale generator filings:

Docket Numbers: EG21-35-000.

Applicants: Flat Ridge Interconnection LLC.

Description: Notice of Self-Certification of Exempt Wholesale Generator Status of Flat Ridge Interconnection LLC.

Filed Date: 11/6/20.

Accession Number: 20201106-5218.

Comments Due: 5 p.m. ET 11/27/20.

Take notice that the Commission received the following electric rate filings:

Docket Numbers: ER19-2373-002; ER10-1841-019; ER10-1845-019; ER10-1852-044; ER10-1905-019; ER10-1907-018; ER10-1918-019; ER10-1925-019; ER10-1927-019; ER10-1950-019; ER10-1951-026; ER10-1970-018; ER10-1972-018; ER10-2005-019; ER10-2006-019; ER10-2078-019; ER11-26-019; ER11-4462-047; ER12-1660-018; ER13-2458-013; ER13-2461-013; ER16-1872-009; ER16-2506-010; ER17-2270-010; ER17-838-022; ER18-1771-008; ER18-2224-008; ER18-2246-007; ER19-1003-006; ER19-1393-006; ER19-1394-006; ER19-2382-002; ER19-2398-003; ER19-2437-002; ER19-2461-002; ER19-987-006; ER20-122-002; ER20-975-001.

Applicants: Ashtabula Wind I, LLC, Ashtabula Wind II, LLC, Ashtabula Wind III, LLC, Butler Ridge Wind Energy Center, LLC, Crowned Ridge Interconnection, LLC, Crowned Ridge Wind, LLC, Crowned Ridge Wind II, LLC, Crystal Lake Wind Energy I, LLC, Crystal Lake Wind Energy II, LLC, Crystal Lake Wind III, LLC, Emmons-Logan Wind, LLC, Endeavor Wind I, LLC, Endeavor Wind II, LLC, Florida Power & Light Company, FPL Energy Mower County, LLC, FPL Energy North Dakota Wind, LLC, FPL Energy North Dakota Wind II, LLC, FPL Energy Oliver Wind I, LLC, FPL Energy Oliver Wind II, LLC, Garden Wind, LLC, Hancock County Wind, LLC, Hawkeye Power Partners, LLC, Heartland Divide Wind Project, LLC, Langdon Renewables, LLC, Marshall Solar, LLC, NextEra Energy Duane Arnold, LLC, NextEra Energy Point Beach, LLC, Oliver Wind III, LLC, Pegasus Wind, LLC, Pheasant Run Wind, LLC, Story County Wind, LLC, Stuttgart Solar, LLC, Tuscola Bay Wind, LLC, Tuscola Wind II, LLC, White Oak Energy LLC, NEPM II, LLC, NextEra Energy Services Massachusetts, LLC, NextEra Energy Marketing, LLC.

Description: Notification of Change in Status of NextEra Resources Entities.

Filed Date: 11/5/20.

Accession Number: 20201105-5187.

Comments Due: 5 p.m. ET 11/27/20.

Docket Numbers: ER21-321-000.

Applicants: RRE Power LLC, Bridge Solar LLC.

Description: Petition of for Limited Waiver of RRE Power LLC, et al.

Filed Date: 10/30/20.

Accession Number: 20201030-5463.

Comments Due: 5 p.m. ET 11/20/20.

Docket Numbers: ER21-351-000.

Applicants: Midcontinent Independent System Operator, Inc.

Description: § 205(d) Rate Filing: 2020-11-06_Surplus Interconnection Product Study Clarification Filing to be effective 1/6/2021.

Filed Date: 11/6/20.

Accession Number: 20201106-5162.

Comments Due: 5 p.m. ET 11/27/20.

Docket Numbers: ER21-352-000.

Applicants: Flat Ridge Interconnection LLC.

Description: Baseline eTariff Filing: Filing of Common Facilities Agreement to be effective 12/1/2020.

Filed Date: 11/6/20.

Accession Number: 20201106-5163.

Comments Due: 5 p.m. ET 11/27/20.

Docket Numbers: ER21-353-000.

Applicants: Oakland Power Company LLC.

Description: § 205(d) Rate Filing: Notices of Succession and Revisions to Tariffs and Agreements (I) to be effective 10/30/2020.

Filed Date: 11/6/20.

Accession Number: 20201106-5166.

Comments Due: 5 p.m. ET 11/27/20.

Docket Numbers: ER21-354-000.

Applicants: Moss Landing Power Company LLC.

Description: § 205(d) Rate Filing: Notices of Succession and Revisions to Tariffs and Agreements (II) to be effective 10/30/2020.

Filed Date: 11/6/20.

Accession Number: 20201106-5170.

Comments Due: 5 p.m. ET 11/27/20.

Docket Numbers: ER21-355-000.

Applicants: Pacific Gas and Electric Company.

Description: § 205(d) Rate Filing: 1st Amendment to CDWR Hyatt-Thermalito LGIA (SA 273) to be effective 1/6/2021.

Filed Date: 11/6/20.

Accession Number: 20201106-5172.

Comments Due: 5 p.m. ET 11/27/20.

Docket Numbers: ER21-356-000.

Applicants: Flat Ridge 2 Wind Energy LLC.

Description: § 205(d) Rate Filing: Certificate of Concurrence to Common Facilities Agreement to be effective 12/1/2020.

Filed Date: 11/6/20.

Accession Number: 20201106-5182.

Comments Due: 5 p.m. ET 11/27/20.

Docket Numbers: ER21-357-000.

Applicants: Public Service Company of New Mexico.

Description: § 205(d) Rate Filing: Executed Engineering and Procurement Agreement between PNM and 201LC 8me LLC to be effective 10/20/2020.

Filed Date: 11/6/20.

Accession Number: 20201106-5183.

Comments Due: 5 p.m. ET 11/27/20.

Docket Numbers: ER21-358-000.

Applicants: PJM Interconnection, L.L.C.

Description: § 205(d) Rate Filing: Original ISA, Service Agreement No. 5823; Queue No. AC2-103 to be effective 10/12/2020.

Filed Date: 11/9/20.

Accession Number: 20201109-5068.

Comments Due: 5 p.m. ET 11/30/20.

Docket Numbers: ER21-359-000.

Applicants: Flat Ridge 3 Wind Energy, LLC.

Description: § 205(d) Rate Filing: CFA, Common Facilities Agreement to be effective 12/1/2020.

Filed Date: 11/9/20.

Accession Number: 20201109-5067.

Comments Due: 5 p.m. ET 11/30/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 9, 2020.
Nathaniel J. Davis, Sr.,
Deputy Secretary.

[FR Doc. 2020-25204 Filed 11-13-20; 8:45 am]

BILLING CODE 6717-01-P